DEPARTMENT OF ENERGY

Federal Energy Regulatory Commission

Sunshine Act Meeting; Federal Register Citation of Previous Announcement: October 7, 2002, 67 FR 62463.

Previously Announced Time and Date of Meeting: October 9, 2002, 10 a.m.

Change in the Meeting: The following Docket Nos. and Companies have been added to Item A-3 on the Commission Meeting agenda of October 9, 2002.

Item No., Docket No. and Company

A-3

ER02-1326-001 and ER02-1326-002, PJM Interconnection, L.L.C.

ER02-2330-000, New England Power Pool and ISO-New England, Inc.

EL00-62-039, ISO-New England, Inc.

Magalie R. Salas,
Secretary.

[FR Doc. 02-26252 Filed 10-10-02; 11:16 am]

BILLING CODE 6717-01-P